DEPARTMENT OF THE INTERIOR

Minerals Management Service

Agency Information Collection Activities: Proposed Collection; Comment Request

AGENCY: Minerals Management Service (MMS), Interior.

ACTION: Notice of a reinstatement of an information collection (1010-0082).

SUMMARY: To comply with the Paperwork Reduction Act of 1995 (PRA), MMS is inviting comments on a collection of information that we will submit to the Office of Management and Budget (OMB) for review and approval. The information collection request (ICR) concerns the paperwork requirements in the regulations under 30 CFR 281, Leasing for Minerals Other than Oil, Gas and Sulphur in the Outer Continental Shelf.

DATES: Submit written comments by November 23, 2007.

ADDRESSES: You may submit comments by any of the following methods listed below. Please use the Information Collection Number 1010-0082 as an identifier in your message.

• E-mail MMS at rules.comments@mms.gov. Identify with Information Collection Number 1010-0082 in the subject line.

• Fax: 703-787-1093. Identify with Information Collection Number 1010-0082.

• Mail or hand-carry comments to the Department of the Interior; Minerals Management Service; Attention: Cheryl Blundon; 381 Elden Street, MS-4024; Herndon, Virginia 20170-4817. Please reference “Information Collection 1010-0082” in your comments.

FOR FURTHER INFORMATION CONTACT: Cheryl Blundon, Regulations and Standards Branch at (703) 787-1607. You may also contact Cheryl Blundon to obtain a copy, at no cost, of the regulations that require the subject collection of information.

SUPPLEMENTARY INFORMATION: Title: 30 CFR Part 281, Leasing for Minerals Other than Oil, Gas, and Sulphur in the Outer Continental Shelf.

OMB Control Number: 1010-0082.

Abstract: Section 8(k) of the Outer Continental Shelf (OCS) Lands Act, as amended (43 U.S.C. 1337), authorizes the Secretary of the Interior (Secretary) to grant to the qualified persons offering the highest cash bonuses on a basis of competitive bidding leases of any mineral other than oil, gas, and sulphur. This applies to any area of the Outer Continental Shelf not then under lease for such mineral upon such royalty, rental, and other terms and conditions as the Secretary may prescribe at the time of offering the area for lease. The Secretary is to administer the leasing provisions of the Act and prescribe the rule and regulations necessary to carry out those provisions.

Regulations at 30 CFR Part 281 implement these statutory requirements. However, there has been no activity in the OCS for minerals other than oil, gas, and sulphur for many years and no information collected since we allowed the OMB approval to expire in 1991. Nevertheless, because these are regulatory requirements, the potential exists for information to be collected and we are requesting that OMB reinstate this collection of information.

We use the information required by 30 CFR Part 281 to determine if statutory requirements are met prior to the issuance of a lease. Specifically, MMS uses the information to:

• Evaluate the area and minerals requested by the lessee to assess the viability of offering leases for sale.

• Allows the State(s) to initiate the establishment of a joint group.

• Ensure excessive overriding royalty interests are not created that would put economic constraints on all parties involved.

• Document that a leasehold or geographical subdivision has been surrendered by the record title holder.

We protect proprietary information according to the Freedom of Information Act (5 U.S.C. 552) and its implementing regulations (43 CFR Part 2), and 30 CFR Parts 280 and 282. No items of a sensitive nature are collected. Responses are mandatory.

Frequency: On occasion.

Estimated Number and Description of Respondents: As there are no active respondents, we estimated the potential annual number of respondents to be one. Respondents are OCS lessees.

Estimated Reporting and Recordkeeping “Hour” Burden: The previous OMB inventory included 1,248 annual burden hours for the collection of information. The following chart details the individual components and respective hour burden estimates of this ICR. In calculating the burdens, we assumed that respondents perform certain requirements in the normal course of their activities. We consider these to be usual and customary and took that into account in estimating the burden.

Citation 30 CFR 281 | Reporting and/or recordkeeping requirement | Hour burden Fee(s)
Subpart A—General
6 | Appeal decisions. | Exempt under 5 CFR 1320.4(a)(2), (c).
Subpart B—Leasing Procedures
11(a), (c) | Request approval for mineral lease with relevant information | 60
All sections | Submit response to Call for Information and Interest on areas for leasing of minerals (other than oil, gas, sulphur) in accordance with approved lease program, including information from States/local governments | 120
13 | States or local governments submit comments/ recommendations on planning, coordination, consultation, and other issues that may contribute to the leasing process | 200
All sections | Submit suggestions and relevant information in response to request for comments on proposed lease including information form States/local governments | 160
18(a), (b), (c); 20(e), (f); 26(a) | Submit bids (oral or sealed) and required information | 250
18(c); 20(e), (f) | Tie bids—submit oral bids for highest bidder | 20
20(a), (b), (c); 41(a) | Establish a Company File for qualification; submit updated information, submit qualifications for lessee/bidder | 58
21(a); 47(c) | Request for reconsideration of bid rejection/cancellation | Exempt as defined 5 CFR 1320.3(h)(9).
Subpart C—Financial Considerations
26; 21(b), (e); 40(b); 41(b) | Execute lease (includes submission of evidence of authorized agent and request for dating of leases) | 100
31(b); 41 | File application and required information for assignment or transfer for approval | 160 $50 application fee
32(b), (c) | File application for waiver, suspension, or reduction and supporting documentation | 80
33; 41(c) | Submit surety or personal bond | Burden covered under 1010-0081.
Subpart E—Termination of Leases
46(a) | File written request for relinquishment. | 40

Estimated Reporting and Recordkeeping “Non-Hour Cost” Burden: We have identified one “non-hour cost” burden for this collection, a $50 application fee under § 281.41. It should be noted that this fee was never previously included since the non-hour cost burdens were not subject to reporting under the 1980 Paperwork Reduction Act. Furthermore, this fee has never been collected since we have not had any leases for minerals other than oil, gas, and sulphur.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: August 6, 2007.
E.P. Danenberger,
Chief, Office of Offshore Regulatory Programs.

[FR Doc. E7-18643 Filed 9-21-07; 8:45 am]

BILLING CODE 4310-MR-P